COMMISSION ON CIVIL RIGHTS

Public Meeting of the Mississippi Advisory Committee

AGENCY: U.S. Commission on Civil Rights.

ACTION: Notice of Mississippi Advisory Committee meeting.

SUMMARY: The Mississippi Advisory Committee (Committee) to the U.S. Commission on Civil Rights (USCCR) will hold a meeting on May 7, 2014, to discuss current civil rights issues in Mississippi. The Committee was appointed on February 14, 2014, and will begin discussing the possible issues on which to conduct future research and produce recommendations.

Members of the public are entitled to comment during the open session beginning at 12:45 p.m. Alternatively, members of the public may submit written comments. Comments must be received in the regional office by June 6, 2014. Comments may be mailed to the Central Regional Office, U.S. Commission on Civil Rights, 400 State Avenue, Suite 908, Kansas City, KS 66101. They may also be faxed to the Committee at (913) 551-1413 or emailed to David Mussatt at dmussatt@usccr.gov.

Hearing-impaired persons who will attend the meeting and require the services of a sign language interpreter should contact the Central Regional Office at least ten (10) working days before the scheduled date of the meeting.

Records generated from this meeting may be inspected and reproduced at the Central Regional Office, as they become available, both before and after the meeting. Persons interested in the work of this advisory committee are advised to go to the Commission's Web site, www.usccr.gov, or to contact the Central Regional Office.

The meeting will be conducted pursuant to the provisions of the rules and regulations of the Commission and FACA.

DATES: The meeting will be held on Wednesday, May 7, 2014, at 11 a.m. until 1:00 p.m.

ADDRESSES: The meetings will be at Millsaps Cabot Lodge at 2375 North State Street, Jackson, MS 39202.

FOR FURTHER INFORMATION CONTACT: Corrine Sanders, 913-551-1400.

Dated: April 9, 2014.
David Mussatt,
Acting Chief, Regional Programs Coordination Unit.

[FR Doc. 2014-08397 Filed 4-14-14; 8:45 am]

BILLING CODE P